DEPARTMENT OF AGRICULTURE

Submission for OMB Review; Comment Request

August 12, 2004.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_ OIRA_Submission@ OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Farm Service Agency

Title: Qualification Requirement.

OMB Control Number: 0560-NEW.

Summary of Collection: The Agricultural Trade Development and Assistance Act of 1954, as amended, (for Title II, Pub. L. 480), Section 416(b) of the Agricultural Act of 1949, as amended (for Section 416(b)), and Food for Progress Act of 1985, as amended authorizes the Department of Agriculture, Farm Service Agency, Kansas City Commodity Office (KCCO) Export Operations Division to procure, sell, and transport agricultural commodities. Commodities are delivered to foreign countries under the different food programs. In order for KCCO to carry out its procurement mission, all prospective bidders that want to bid on contracts procured under USDA or CCC authorities must be qualified prior to submitting offers for Invitations for Bid. The qualification requirement is a reexamination and revalidation of established qualifications as required by the Federal Acquisition Regulation, and is necessary for KCCO to carry out its procurement mission.

Need and Use of the Information: The collection of information will allow KCCO to evaluate offers impartially, purchase or sell commodities, and obtain services to meet domestic and export program needs. Also, the collected information will allow KCCO to determine if a vendor has adequate financial resources to perform the contract or the ability to obtain them. Without the information, KCCO could not meet domestic and export program requirements of procuring, selling, and transporting agricultural commodities in a timely manner.

Description of Respondents: Business or other-for-profit; not-for-profit institutions.

Number of Respondents: 45.

Frequency of Responses: Reporting: Annually; Other (one time).

Total Burden Hours: 145.

Sondra Blakey,
Departmental Information Collection Clearance Officer.

[FR Doc. 04-18890 Filed 8-17-04; 8:45 am]

BILLING CODE 3410-05-P